DEPARTMENT OF TRANSPORTATION

Federal Railroad Administration

[Docket No. FRA-2014-0011-N-16]

Proposed Agency Information Collection Activities; Comment Request

AGENCY: Federal Railroad Administration (FRA), Department of Transportation (DOT).

ACTION: Notice.

SUMMARY: In accordance with the Paperwork Reduction Act of 1995 and its implementing regulations, the Federal Railroad Administration (FRA) hereby announces that it is seeking renewal of the following currently approved information collection activities. Before submitting the information collection requests (ICRs) below for clearance by the Office of Management and Budget (OMB), FRA is soliciting public comment on specific aspects of the activities identified below.

DATES: Comments must be received no later than November 3, 2014.

ADDRESSES: Submit written comments on any or all of the following proposed activities by mail to either: Mr. Robert Brogan, Office of Safety, Planning and Evaluation Division, RRS-21, Federal Railroad Administration, 1200 New Jersey Ave. SE., Mail Stop 17, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-_____.” Alternatively, comments may be transmitted via facsimile to (202) 493-6216 or (202) 493-6497, or via email to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave. SE., Mail Stop 17, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of currently approved information collection activities that FRA will submit for clearance by OMB as required under the PRA:

Title: Roadway Worker Protection.

OMB Control Number: 2130-0539.

Abstract: This rule establishes regulations governing the protection of railroad employees working on or near railroad tracks. The regulation requires that each railroad devise and adopt a program of on-track safety to provide employees working along the railroad with protection from the hazards of being struck by a train or other on-track equipment. Elements of this on-track safety program include an on-track safety manual; a clear delineation of employers' responsibilities, as well as employees' rights and responsibilities thereto; well-defined procedures for communication and protection; and annual on-track safety training. The program adopted by each railroad is subject to review and approval by FRA. Part 214 regulations have been deemed different enough from the part 213 regulations as to require a separate and distinct reporting form (new Form FRA F 6180.119). Regardless of discipline, the FRA inspector will complete the new Roadway Workplace Safety Violation Report Form (FRA F 6180.119) when recommending civil penalties for part 214 infractions.

Form Number(s): FRA F 6180.119.

Affected Public: Businesses/Individuals.

Respondent Universe: 718 Railroads; 50,000 Roadway Workers.

Frequency of Submission: On occasion.

Reporting Burden:

CFR Section | Respondent universe | Total annual responses | Average time per response | Total annual burden hours
Form FRA F 6180.119—Part 214 Railroad Workplace Safety Violation Report | 350 Safety Inspectors | 150 forms | 4 hours | 600
214.303—Railroad On-Track Safety Programs:
—Amendments to Programs | 60 Railroads | 20 amend. + 584 amend | 20 hours; 4 hrs | 2,736
—Subsequent Years: New Programs | 5 New Railroads | 5 new prog. | 250 hours | 1,250
214.313—Good Faith Challenges to On-Track Safety Rules | 20 Railroads | 80 challenges | 4 hours per challenge | 320
214.315/335—Supervision +communication:
—Regular Job Briefings | 50,000 Rdwy Workers | 16,350,000 brf | 2 minutes | 545,000
—Adjacent-Track Safety Briefings (New) | 24,500 Rdwy Workers | 2,403,450 brf. | 30 seconds | 20,029
214.321—Exclusive Track Occupancy: Working Limits:
—Written authority to roadway worker in charge | 8,583 Roadway Workers | 700,739 authorities | 1 minute | 11,679
214.325—Train Coordination—Establishing Working Limits through Communication | 50,00 Roadway Workers | 36,500 comm. | 15 seconds | 152
214.327—Inaccessible Track:
—Working Limits on Non-controlled Track: Notifications | 718 Railroads | 50,000 notifications | 10 minutes | 8,333
214.336—Procedures for Adjacent-Track Movements Over 25 mph:
—Notifications/Watchmen/Lookout Warnings | 100 Railroads | 10,000 notific. | 15 seconds | 42
—Roadway Worker Communication with Train Engineers or Equipment Operators | 100 Railroads | 3,000 comm. | 1 minute | 50
—Procedures for Adjacent-Track Movements 25 mph or less | 100 Railroads | 3,000 notific. | 15 seconds | 13
—Notifications/Watchmen/Lookout Warnings
—Roadway Worker Communication with Train Engineers or Equipment Operators | 100 Railroads | 1,500 comm | 1 minute | 25
—Exceptions to the requirements in paragraphs (a), (b), and (c) for adjacent-controlled-track on-track safety: Work activities involving certain equipment and purposes—On-Track Job Safety Briefings | 100 Railroads | 1,030,050 briefings | 15 seconds | 4,292
214.337—On-Track Safety Procedures for Lone Workers: Statements by Lone Workers | 718 Railroads | 2,080,000 statements | 30 seconds | 17,333
214.343/345/347/349/351/353/355—training | 50,000 Rdwy Workers | 50,000 tr. RW | 4.5 hours | 225,000
—Additional on-track safety training (New) | 35,000 Rdwy Workers | 35,000 tr. RW | 5 min. | 2,917
—Records of Training | 50,000 Roadway Workers | 50,000 records | 2 min. | 1,667
214.503—Good Faith Challenges; Procedures for Notification and Resolution:
—Notifications for Non-Compliant Roadway Maintenance Machines or Unsafe Condition | 50,000 Rdwy Workers | 125 notific. | 10 minutes | 21
—Resolution Procedures | 644 Railroads | 10 procedures | 2 hours | 20
214.505—Required Environmental Control and Protection Systems for New On-Track Roadway Maintenance Machines with Enclosed Cabs: | 644 Railroads/200 contractors | 500 lists | 1 hour | 500
—Designations/Additions to List | 644 Railroads/200 contractors | 150 additions/designations | 5 minutes | 13
214.507—A-Built Light Weight on New Roadway Maintenance Machines | 644 Railroads | 1,000 stickers | 5 minutes | 83
214.511—Required Audible Warning Devices for New On-Track Roadway Maintenance Machines | 644 Railroads | 3,700 identified mechanisms | 5 minutes | 308
214.513—Retrofitting of Existing On-Track Roadway Maintenance Machines:
—Identification of Triggering Mechanism—Horns | 703 Railroads | 200 mechanisms | 5 minutes | 17
214.515—Overhead Covers for Existing On-Track Roadway Maintenance Machines | 644 Railroads | 500 requests + 500 responses | 10 minutes; 20 minutes | 250
214.517—Retrofitting of Existing On-Track Roadway Maintenance Machines Manufactured On or After Jan. 1, 1991 | 644 Railroads | 500 stencils | 5 minutes | 42
214.518—Safe and Secure Position for riders:
—Positions identified by stencilings/markings/notices | 644 Railroads | 1,000 stencils | 5 minutes | 83
214.523—Hi-Rail Vehicles—Inspections/Records: | 644 Railroads | 2,000 records | 60 minutes | 2,000
—Non-Complying Conditions | 644 Railroads | 500 tags + 500 reports | 10 min.; 15 min | 208
214.527—On-Track Roadway Maintenance Machine; Inspection for Compliance and Repair Schedules | 644 Railroads | 550 tags + 550 reports | 5 min.; 15 min | 184
214.533—Schedule of Repairs Subject to Availability of Parts—Records of Compliance with this Section | 644 Railroads | 250 records | 15 minutes | 63

Total Estimated Responses: 22,816,613.

Total Estimated Annual Burden: 845,230 hours.

Status: Extension of a Currently Approved Collection.

Title: Conductor Certification.

OMB Control Number: 2130-0596.

Abstract: On November 9, 2011, FRA issued regulations for certification of conductors, as required by the Rail Safety Improvement Act of 2008. See 76 FR 69802. This rule requires railroads to have a formal program for certifying conductors. As part of that program, railroads are required to have a formal process for training prospective conductors and determining that all persons are competent before permitting them to serve as a conductor. FRA issued this regulation to ensure that only those persons who meet minimum Federal safety standards serve as conductors, to reduce the rate and number of accidents and incidents, and to improve railroad safety. Although this rule does not propose any specific amendments to the regulation governing locomotive engineer certification, it does highlight areas in that regulation that may require conforming changes. The information collected under this rule is used by FRA to ensure that railroads and their employees fully comply with all the requirements of part 242, including a conductor certification/recertification program, fitness requirements, initial and periodic testing of conductors, territorial qualifications, etc.

Form Number(s): N/A.

Affected Public: Businesses.

Respondent Universe: 677 railroads.

Frequency of Submission: On occasion; annually.

Reporting Burden:

CFR Section/Subject | Respondent universe | Total annual responses | Average time per response | Total annual burden hours
242.9—Waivers—Petitions | 677 railroads | 10 petitions | 3 hours | 30
242.101/103—Certification Program: Written Program for Certifying Conductors | 677 railroads | 678 programs | 160 hrs./581 Hrs./15.5 hrs. | 16,799
Approval of Design of Programs:
—Certification Programs for New RRs | 6 railroads | 6 new prog. | 15.5 hours | 93
—Conductor Certification Submission Copies to Rail Labor Organizations | 677 railroads | 200 copies | 15 minutes | 50
—Affirmative Statements that Copies of Submissions Sent to RLOs | 677 railroads | 200 statements | 15 minutes | 50
—Certified Comments on Submissions | 677 railroads | 35 comments | 4 hours | 140
—Certification Programs Disapproved by FRA and then Revised | 677 railroads | 10 programs | 4 hours | 40
—Revised Certification Programs Still Not Conforming and Then Resubmitted | 677 railroads | 3 programs | 2 hours | 6
—Certification Programs Materially Modified After Initial FRA Approval | 677 railroads | 50 programs | 2 hours | 100
—Materially Modified Programs Disapproved by FRA & Then Revised | 677 railroads | 3 programs | 2 hours | 6 hours
—Revised Programs Disapproved and Then Resubmitted | 677 railroads | 1 program | 2 hours | 2 hours
242.105 —Implementation Schedule:
—Designation of Certified Conductors (Class I Railroads) | 677 railroads | 48,600 designations | 5 minutes | 4,050
—Issued Certificates (1/3 each year) | 677 railroads | 16,200 certif. | 1 hour | 16,200
—Designation of Certified Conductors (Class II and III Railroads) | 677 railroads | 5,400 design. | 5 minutes | 450
—Issued Certificates (1/3 each year) | 677 railroads | 1,800 certif. | 1 hour | 1,800
—Requests for Delayed Certification | 677 railroads | 5,000 request | 30 minutes | 2,500
—Testing/Evaluation to Certify Persons | 677 railroads | 1,000 tests | 560 hours | 560,000
—Testing/Evaluation to Certify Conductors (Class III) | 627 railroads | 100 tests | 400 hours | 40,000
242.107—Types of Service—Reclassification to Diff. Type of Cert. | 677 railroads | 25 conductor Tests/Evaluations | 8 hours | 200
242.109—Opportunity by RRs for Certification Candidates to Review and Comment on Prior Safety Record | 677 Railroads | 200 records + 200 comments | 30 minutes + 10 minutes | 133
242.111—Prior Safety Conduct As Motor Vehicle Operator:
—Eligibility Determinations | 677 Railroads | 1,100 dtrmin. | 10 minutes | 183
—Initial Certification for 60 Days | 677 Railroads | 75 certific. | 10 minutes | 13
—Recertification for 60 Days | 677 Railroads | 125 recertif. | 10 minutes | 21
—Driver Info. Not Provided and Request for Waiver by Persons/RR | 677 Railroads | 25 requests | 2 hours | 50
—Request to Obtain Driver's License Information From Licensing Agency | 54,000 Conductors/Persons | 18,000 req. | 15 minutes | 4,500
—Requests for Additional Information From Licensing Agency | 54,000 Conductors/Persons | 25 requests | 10 minutes | 4
—Notification to RR by Persons of Never Having a License | 54,000 Conductors/Persons | 2 notifications | 10 minutes | .33
—Report of Motor Vehicle Incidents | 54,000 Conductors | 200 reports | 10 minutes | 33
—Evaluation of Driving Record | 54,000 Conductors | 18,000 eval. | 15 minutes | 4,500
—DAC Referral by RR After Report of Driving Drug/Alcohol Incident | 677 Railroads | 180 referrals | 5 minutes | 15
—DAC Request and Supply by Persons of Prior Counseling or Treatment | 677 Railroads | 5 requests/Records | 30 minutes | 3
—Conditional Certifications Recommended by DAC | 677 Railroads | 50 certificat. | 4 hours | 200
242.113—Prior Safety Conduct As Employee of a Different Railroad | 54,000 conductors | 360 requests/ 360 records | 15 minutes + 30 minutes | 270
242.115—Substance Abuse Disorders and Alcohol Drug Rules Compliance:
—Meeting Section's Eligibility Reqmnt | 54,000 conductors | 18,000 determinations | 2 minutes | 600
—Written Documents from DAC Person Not Affected by a Disorder | 677 railroads | 400 docs. | 30 minutes | 200
—Self-Referral by Conductors for Substance Abuse Counseling | 54,000 conductors | 10 self-referrals | 10 minutes | 2
—Certification Reviews for Occurrence/Documentation of Prior Alcohol/Drug Conduct by Persons/Conductors | 677 railroads | 18,000 reviews | 10 minutes | 3,000
—Written Determination That Most Recent Incident Has Occurred | 677 railroads | 150 determin. | 60 minutes | 150
—Notification to Person That Recertification Has Been Denied | 677 railroads | 150 notific. | 10 minutes | 25
—Persons/Conductors Waiving Investigation | 54,000 conductors | 100 waivers | 10 minutes | 17
242.117—Vision and Hearing Acuity:
—Determination Vision Standards Met | 677 railroads | 18,000 deter. | 20 minutes | 6,000
—Determination Hearing Stds. Met | 677 railroads | 18,000 deter. | 20 minutes | 6,000
—Additional Gap Hearing Tests | 677 railroads | 200 deter. | 20 minutes | 67
—Medical Examiner Certificate That Person Has Been Examined/Passed Test | 677 railroads | 18,000 certif. | 2 hours | 36,000
—Document Standards Met with Conditions | 677 railroads | 50 document | 30 minutes | 25
—Document Standards Not Met | 677 railroads | 25 document | 30 minutes | 13
—Notation Person Needs Corrective Device (Glasses/Hearing Aid) | 677 railroads | 10,000 notes | 10 minutes | 1,667
—Request for Further Medical Evaluation for New Determination | 677 railroads | 100 requests + 100 Evals. | 60 minutes + 2 hours | 300
—Request for Second Retest and Another Medical Evaluation | 677 railroads | 25 requests + 25 Evals. | 60 minutes + 2 hours | 75
—Copies of Part 242 Provided to RR Medical Examiners | 677 railroads | 677 copies | 60 minutes | 677
—Consultations by Medical Examiners with Railroad Officer and Issue of Conditional Certification | 677 railroads | 100 consults + 100 certif. | 2 hours + 10 minutes | 217
—Notification by Certified Conductor of Deterioration of Vision/Hearing | 677 railroads | 10 notific. | 10 minutes | 2
242.119—Training:
—Completion of Training Program | 677 railroads | 678 Programs | 36 hours/70 hrs/3 hrs | 3,751
—Modification to Training Program | 677 railroads | 678 Programs | 12 hrs/20 hrs/30 min. | 934
—Completion of Training Program by Conductors/Persons + Documents | 54,000 Conductors | 18,000 Docs/18,000 Cond. | 1 hour/560 hours | 10,098,000
—Modification of Training Program Due to New Laws/Regulations | 677 railroads | 30 programs | 4 hours | 120
—Consultation with Supervisory Employee During Written Test | 677 railroads | 1,000 consult | 15 minutes | 250
—Familiarization Training Upon Transfer of RR Ownership | 677 railroads | 10 trained Conductors | 8 hours | 80
—Continuing Education of Conductors | 677 railroads | 18,000 cont. trained cond. | 8 hours | 144,000
242.121—Knowledge Testing:
—Determining Eligibility | 677 railroads | 18,000 deter. | 30 minutes | 9,000
—Retests/Re-Examinations | 677 railroads | 500 Retests | 8 hours | 4,000
242.123—Monitoring Operational Performance:
—Unannounced Compliance Tests and Records | 677 railroads | 18,000 tests + 18,000 recd | 10 minutes + 5 minutes | 4,500
—Return to Service That Requires Unannounced Compliance Test/Record | 677 railroads | 1,000 tests + 1,000 records | 10 minutes + 5 minutes | 250
242.125/127—Certificate Determination by Other Railroads/Other Country:
—Determination Made by RR Relying on Another RR's Certification | 677 railroads | 100 determin. | 30 minutes | 50
—Determination by Another Country | 677 railroads | 200 determin. | 30 minutes | 100
242.203—Retaining Information Supporting Determination—Records | 677 railroads | 18,000 recds | 15 minutes | 4,500
—Amended Electronic Records | 677 railroads | 20 records | 60 minutes | 20
242.205—List of Certified Conductors Working in Joint Territory | 677 railroads | 625 lists | 60 minutes | 625
242.209—Maintenance of Certificates:
—Request to Display Certificate | 677 railroads | 2,000 request/displays | 2 minutes | 67
—Notification That Request to Serve Exceeds Certification | 677 railroads | 1,000 notif. | 10 minutes | 167
242.211—Replacement of Certificates | 677 railroads | 500 certific. | 5 minutes | 42
242.213—Multiple Certificates:
—Notification to Engineer That No Conductor Is On Train | 677 railroads | 5 notification | 10 minutes | 1
—Notification of Denial of Certification by Individuals Holding Multiple Certifications | 677 railroads | 10 notific. | 10 minutes | 2
242.215—RR Oversight Responsibility:
—RR Review and Analysis of Administration of Certification Program | 677 railroads | 44 reviews/Analyses | 40 hours | 1,760
—Report of Findings by RR to FRA | 677 railroads | 36 reports | 4 hours | 144
242.301—Determinations—Territorial Qualification and Joint Operations | 320 railroads | 1,080 Deter. | 15 minutes | 270
—Notification by Persons Who Do Not Meet Territorial Qualification | 320 railroads | 500 Notific. | 10 minutes | 83
242.401—Notification to Candidate of Information That Forms Basis for Denying Certification and Candidate Response | 677 railroads | 40 notific. + 40 responses | 60 minutes/60 minutes | 80
—Written Notification of Denial of Certification | 677 railroads | 40 notific. | 60 minutes | 40
242.403/405—Criteria for Revoking Certification; Periods of Ineligibility:
—Review of Compliance Conduct | 677 railroads | 950 reviews | 10 minutes | 158
—Written Determination That the Most Recent Incident Has Occurred | 677 railroads | 950 determin. | 60 minutes | 950
242.407—Process for Revoking Certification:
—Revocation for Violations of Section 242.115(e) | 677 railroads | 950 Revoked Certificates | 8 hours | 7,600
—Immediate Suspension of Certificate | 677 railroads | 950 suspend Certificates | 1 hour | 950
—Determinations Based on RR Hearing Record | 677 railroads | 950 determin. | 15 minutes | 238
—Hearing Record | 677 railroads | 950 records | 30 minutes | 475
—Written Decisions by RR Official | 677 railroads | 950 decisions | 2 hours | 1,900
—Service of Written Decision on Employee by RR + RR Service Proof | 677 railroads | 950 decisions + 950 proofs | 10 minutes + 5 minutes | 238
—Written Waiver of Right to Hearing | 54,000 Conductors | 425 waivers | 10 minutes | 71
—Revocation of Certification Based on Information That Another Railroad Has Done So | 677 railroads | 15 revoked Certifications | 10 minutes | 3
—Placing Relevant Information in Record Prior to Suspending Certification/Convening Hearing | 677 railroads | 100 updated records | 1 hour | 100

Total Estimated Responses: 354,076.

Total Estimated Total Annual Burden: 3,972,997 hours.

Status: Extension of a Currently Approved Collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on August 28, 2014.
Rebecca Pennington,
Chief Financial Officer.

[FR Doc. 2014-20911 Filed 9-2-14; 8:45 am]

BILLING CODE 4910-06-P